DEPARTMENT OF THE INTERIOR

Office of the Secretary

[DOI-2024-0013l; 188 PPWOCRADS7 PPMRSCR1C.CE0000 WBS: PX.P0252231F.00.1]

Privacy Act of 1974; System of Records

AGENCY: Office of the Secretary, Interior.

ACTION: Notice of a new system of records.

SUMMARY: Pursuant to the provisions of the Privacy Act of 1974, as amended, the Department of the Interior (DOI) is issuing a public notice of its intent to create a new Privacy Act system of records, INTERIOR/DOI-22, Archaeological Resources Preservation System. This system of records helps the DOI implement the Archaeological Resources Protection Act of 1979, as amended, and manage, preserve, and protect archaeological resources on Federal lands under DOI's jurisdiction. This newly established system will be included in the DOI's inventory of record systems.

DATE: This new system will be effective upon publication. New routine uses will be effective November 6, 2024. Submit comments on or before November 6, 2024.

ADDRESSES: You may send comments identified by docket number [DOI-2024-0013] by any of the following methods.

• Federal eRulemaking Portal: https://www.regulations.gov. Follow the instructions for submitting comments.

• Email: DOI_Privacy@ios.doi.gov. Include docket number [DOI-2024-0013] in the subject line of the message.

• U.S. mail or hand-delivery: Teri Barnett, Departmental Privacy Officer, U.S. Department of the Interior, 1849 C Street NW, Room 7112, Washington, DC 20240.

Instructions: All submissions received must include the agency name and docket number [DOI-2024-0013]. All comments received will be posted without change to https://www.regulations.gov, including any personal information provided.

Docket: For access to the docket to read background documents or comments received, go to https://www.regulations.gov.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION:

I. Background

The DOI is establishing the INTERIOR/DOI-22, Archaeological Resources Preservation System, system of records to implement the Archaeological Resources Protection Act of 1979 (ARPA), which requires DOI to issue implementing regulations to manage, protect, and preserve archaeological resources on Federal lands under DOI's jurisdiction. In compliance with ARPA, DOI promulgated regulations at 43 CFR part 7, Protection of Archaeological Resources, that provide uniform definitions, standards, and procedures for the protection of archaeological resources located on public lands and Indian lands of the United States. The regulations enable Federal land managers to protect archaeological resources through issuing permits for authorized excavation and/or removal of archaeological resources, through civil penalties for unauthorized excavation and/or removal of archaeological resources, promote the preservation of archaeological resource collections and data, and ensure the confidentiality of information about archaeological resources. Archaeological resources are any material remains of human life or activities which are at least 100 years of age, and which are of archaeological interest, as defined in 43 CFR part 7. The INTERIOR/DOI-22, Archaeological Resources Preservation System, system of records will help DOI in the oversight, management, tracking, and reporting of activities conducted under ARPA and 43 CFR part 7 and ensure the protection of archaeological resources on Federal lands.

The ARPA contains criminal and civil penalties for persons who commit prohibited acts or for violations involving archaeological resources under the ARPA and other law enforcement authorities. Any reported or suspected violation of the ARPA will be referred to the appropriate Federal, State, or local law enforcement organization for investigation and appropriate action. Records related to criminal investigations for prohibited acts or violations involving archaeological resources under the ARPA and 43 CFR part 7 will be maintained separately in other law enforcement systems of records as appropriate and will not be part of this system of records. However, records relating to criminal and civil penalties assessed under the ARPA and 43 CFR part 7 may be maintained in this system or other systems of records as necessary to implement the provisions of the ARPA and regulations at 43 CFR part 7.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency for which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each Federal agency to publish in the Federal Register a description denoting the existence and character of each system of records that the agency maintains and the routine uses of each system. The system of records notice for the INTERIOR/DOI-22, Archaeological Resources Preservation System, is published in its entirety below. In accordance with 5 U.S.C. 552a(r), DOI has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/DOI-22, Archaeological Resources Preservation System.

SECURITY CLASSIFICATION:

Unclassified.

SYSTEM LOCATION:

Records pertaining to the protection of archaeological resources, investigations, and program management are maintained at:

(1) Departmental Consulting Archaeologist, National Park Service, 1849 C Street NW, Mail Stop 7508 MIB, Washington, DC 20240.

(2) Office of the Regional Director in each region of the National Park Service (NPS) in which the archaeological investigation is taking place. A current listing of park offices and contact information may be obtained by visiting the NPS website at https://www.nps.gov or by contacting the System Manager.

(3) Office of the Regional Director in each U.S. Fish and Wildlife Service (FWS) National Wildlife Refuge in which the archaeological investigation is taking place. A current listing of these offices may be obtained by writing to the System Manager or by visiting the FWS website at https://www.fws.gov.

(4) Office of the Regional Director in each region of the Bureau of Indian Affairs (BIA) in which the archaeological investigation is taking place. A current listing of contact information may be obtained by visiting the BIA website at https://www.bia.gov/regional-offices and by contacting the Regional Archaeologist.

(5) Office of the Regional Director in each region of the Bureau of Land Management (BLM) in which the archaeological investigation is taking place. Contact information can be found on the BLM leadership website at https://www.blm.gov/leadership.

(6) Bureau of Reclamation (Reclamation), Federal Preservation Officer, Denver Federal Center, and the Office of the Regional Archaeologist in each Reclamation region in which the archaeological work is taking place. A current list of the Regional Archaeologists can be found at https://www.usbr.gov/cultural/crmstaff.html.

SYSTEM MANAGER(S):

(1) National Park Service—Departmental Consulting Archaeologist, National Park Service, 1849 C Street NW, Mail Stop 7508 MIB, Washington, DC 20240.

(2) U.S. Fish and Wildlife Service—Office of the Regional Director in each National Wildlife Refuge in which the archaeological investigation is taking place. A current listing of these offices may be obtained by writing to the System Manager/s or by visiting the FWS website at https://www.fws.gov.

(3) Bureau of Indian Affairs—Regional Director in each Region of the BIA in which the archaeological investigation is taking place. A current listing of contact information may be obtained by visiting the BIA website at https://www.bia.gov/regional-offices and by contacting the Regional Archaeologist.

(4) Bureau of Land Management—Headquarters Division Chief, Division of Education, Cultural and Paleontological Resources, 760 Horizon Dr, Ste. 109, Grand Junction, CO 81506.

(5) Bureau of Reclamation—Federal Preservation Officer, Denver Federal Center, PO Box 25007, Denver, CO 80225-0007.

AUTHORITY FOR MAINTENANCE OF THE SYSTEM:

The Archaeological Resources Protection Act of 1979, 16 U.S.C. 470aa-470mm; 43 CFR part 7, Protection of Archaeological Resources; The Antiquities Act of 1906, Public Law 59-209, 34 Stat. 225; Monuments, Ruins, Sites, and Objects of Antiquity, 54 U.S.C. 320301-320303; 25 CFR 262.8, Custody of archaeological resources; 43 CFR part 3, Preservation of American Antiquities; U.S.C. Title 54—National Park Service and Related Programs; The National Park Service Organic Act; The Reclamation Act; The National Wildlife Refuge System Administration Act; and The Federal Land Policy and Management Act.

PURPOSE(S) OF THE SYSTEM:

The primary purposes of the system are to support the management, preservation, and protection of archaeological resources on Federal lands; help Federal land managers oversee research projects, monitor fieldwork, manage field records and reports, and ensure material objects are appropriately curated; and comply with ARPA and 43 CFR part 7 for the protection of archaeological resources.

CATEGORIES OF INDIVIDUALS COVERED BY THE SYSTEM:

Individuals covered by the system include members of the public, researchers, principal investigators, field directors, and permit administrators who apply for or process permits for proposed archaeological investigations, Tribal officials involved in the permit approval process, and Federal employees with responsibility for administering permits for proposed archaeological investigations. This system contains records concerning corporations, educational institutions, and other business entities, which are not subject to the Privacy Act. However, records pertaining to individuals acting on behalf of corporations and other business entities may reflect personal information.

CATEGORIES OF RECORDS IN THE SYSTEM:

The system contains records related to the management and protection of archaeological resources including permits, applications, investigations, notice of violations, assessment of penalties, records related to violations, referrals for investigation, suspension or revocation, appeals and administrative decisions, and documented consent from Tribes or Indian owner(s). These records may include but are not limited to: permit number, name, personal or business address, personal or business telephone number, personal or business email address, advanced education and related documentation, training, qualifications, nature and location of proposed work, duration of project and fieldwork, proposed outlet(s) for public written dissemination of the investigation results, signature of permit administrator, and any additional information that may be required to fulfill requirements of the ARPA and 43 CFR part 7 to manage and protect archaeological resources.

RECORD SOURCE CATEGORIES:

Records in the system are obtained from commercial organizations and independent researchers at institutions, such as colleges and universities, who submit an application for a permit, a report, or artifacts, provide evidence to a Federal land manager, or are involved in a permit application, excavation, controlled collection, analysis, or permitted activity.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To State Historic Preservation Offices to maintain inventory of known archaeological sites located within the State, including sites on Federal lands in order to:

(1) conduct a comprehensive statewide survey of historic property and maintain inventories of the property; and

(2) maintain historical and archaeological data under a contract or cooperative agreement.

P. To Federal, State, territorial, and local governments, Tribal organizations, and members of the public to conduct consultations among agency officials and other parties with an interest in the effects of the undertaking, including any project, activity, or program either funded, permitted, licensed, or approved by a Federal agency, on historic properties or Federal lands.

POLICIES AND PRACTICES FOR STORAGE OF RECORDS:

Records are stored in both paper format and electronic format. Paper records are contained in file folders stored in secured file cabinets. Electronic records are contained in removable drives, computers, email, and electronic databases.

POLICIES AND PRACTICES FOR RETRIEVAL OF RECORDS:

Records in the system may be retrieved by name, address, telephone number, or email address.

POLICIES AND PRACTICES FOR RETENTION AND DISPOSAL OF RECORDS:

Records in this system are maintained in accordance with Department-wide or specific bureau records retention schedules that have been approved by NARA.

NPS maintains records in accordance with the NPS Record Schedule, Resource Management and Lands (Item 1), 1.A, Land Acquisition and Land Status Records, which has been approved by NARA (N1-79-08-1). Permits for archaeological investigations are permanent. Permanent special media and electronic records along with any finding aids or descriptive information, including linkage to the original file, and related documentation are transferred by calendar year to the National Archives when 3 years old. Digital records will be transferred according to standards applicable at the time. All other permanent records are transferred to the National Archives 15 years after closure.

FWS maintains records in accordance with the FWS Records Schedule, PERM-811, Archaeological Permit Files which has been approved by NARA (N1-022-05-01/34). These records are considered temporary. Approved permits are maintained for three years after the permit expiration or termination date. Denied permits are maintained for 1 year after the final determination.

BIA records are maintained under Indian Affairs Records Schedule, Cultural Resources Site Study (4303 or TR-4303-P5) approved by NARA (N1-075-04-001) and Indian Land Permit (4502 or TR-4502 P-5) (N1-075-04-03). These records are scheduled as permanent. Records are maintained in the office of record for five years after cutoff, and then retired to the American Indian Records Repository. Transfer to the National Archives of the United States in accordance with the signed Standard Form 258, Agreement to Transfer Records to the National Archives of the United States.

BLM records are maintained under the BLM Records Schedule 4, Property Use and Disposal, Item 11A—Resources Inventory, Study, or Survey Case Files (N1-49-90-01). These records are scheduled as permanent. Records are maintained in the office for three years after cutoff then transferred to a Federal Records Center (FRC) and are transferred to NARA 25 years after cutoff.

Reclamation records are currently maintained in accordance with the following approved NARA Reclamation Records Retention Schedule 3, Environmental Compliance and Management, ENV-3.00, Cultural Resources (N1-115-94-7). Archeology files have a permanent retention. Records are transferred to the FRC 10 years after cutoff then transferred to NARA 30 years after cutoff.

ADMINISTRATIVE, TECHNICAL, AND PHYSICAL SAFEGUARDS:

The records contained in this system are safeguarded in accordance with 43 CFR 2.226 and other applicable security and privacy rules and policies. During normal hours of operation, paper records are maintained in locked file cabinets under the control of authorized personnel. Computer servers on which electronic records are stored are located in secured DOI controlled facilities with physical, technical and administrative levels of security to prevent unauthorized access to the DOI network and information assets. Access is restricted to authorized personnel who are individually authorized to use the system based on their roles. A Privacy Act Warning Notice appears on computer monitor screens when records containing information on individuals are first displayed. Data exchanged between the servers and the system is encrypted. Backup media are encrypted and stored in a locked and controlled room in a secure, off-site location.

All authorized users are trained and required to follow established internal security protocols and must complete all security, privacy, and records management training and sign the DOI Rules of Behavior. Privacy impact assessments are conducted on information systems to ensure that Privacy Act requirements are met and appropriate privacy controls were implemented to safeguard the personally identifiable information contained in the system.

RECORD ACCESS PROCEDURES:

An individual requesting access to their records should send a written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

None.

Teri Barnett,
Departmental Privacy Officer, U.S. Department of the Interior.

[FR Doc. 2024-23078 Filed 10-4-24; 8:45 am]

BILLING CODE 4334-63-P